DEPARTMENT OF COMMERCE

Foreign-Trade Zones Board

[Order No. 1890]

Grant of Authority; Establishment of a Foreign-Trade Zone Under the Alternative Site Framework Caledonia, Essex and Orleans Counties, Vermont

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (74 FR 1170-1173, 01/12/2009 (correction 74 FR 3987, 01/22/2009); 75 FR 71069-71070, 11/22/2010) as an option for the establishment or reorganization of general-purpose zones;

Whereas, the Northeastern Vermont Development Association (the Grantee) has made application to the Board (Docket 25-2012, filed 03/23/2012) requesting the establishment of a foreign-trade zone under the ASF with a service area of the Counties of Caledonia, Essex and Orleans, Vermont, as described in the application, within and adjacent to the Derby Line U. S. Customs and Border Protection port of entry, proposed Sites 1, 2 and 3 would be categorized as magnet sites and Site 4 would be categorized as a usage-driven site;

Whereas, notice inviting public comment has been given in the Federal Register (77 FR 19003, 03/29/2012) and the application has been processed pursuant to the FTZ Act and the Board's regulations; and,

Whereas, the Board adopts the findings and recommendations of the examiner's report, and finds that the requirements of the FTZ Act and the Board's regulations are satisfied;

Now, therefore, the Board hereby grants to the Grantee the privilege of establishing a foreign-trade zone, designated on the records of the Board as Foreign-Trade Zone No. 286, as described in the application, and subject to the FTZ Act and the Board's regulations, including Section 400.13, to the Board's standard 2,000-acre activation limit, and to ASF sunset provisions for magnet sites that would terminate authority for Sites 1 and 3 if not activated by March 31, 2018 and for usage-driven sites that would terminate authority for Site 4 if no foreign-status merchandise is admitted for a bona fide customs purpose by March 31, 2016.

Signed at Washington, DC, this 22nd day of March 2013.
Rebecca Blank,
Deputy Secretary of Commerce, Chairman and Executive Officer, Foreign-Trade Zones Board.
Andrew McGilvray,
Executive Secretary.

[FR Doc. 2013-07868 Filed 4-3-13; 8:45 am]

BILLING CODE P